DEPARTMENT OF THE TREASURY

Agency Information Collection Activities; Proposed Collection; Comment Request; Multiple Departmental Offices Information Collection Requests

AGENCY: Departmental Offices, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before November 26, 2018.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

1. Title: Request for Transfer of Property Seized/Forfeited by a Treasury Agency.

OMB Control Number: 1505-0152.

Type of Review: Extension without change of a currently approved collection.

Description: This form is an application from local law enforcement entities to the Treasury Department to request a percentage of proceeds or tangible property that has been seized/forfeited by the federal government. The information on form TD F 92-22.46 is used to evaluate a request for asset sharing by a local, county, state or law enforcement agency that participated in a Treasury investigation.

Form: TD F 92-22.46.

Affected Public: State, Local & Tribal Governments.

Estimated Number of Respondents: 1,000.

Frequency of Response: On occasion.

Estimated Total Number of Annual Responses: 7,000.

Estimated Time per Response: 30 minutes.

Estimated Total Annual Burden Hours: 3,500.

2. Title: Treasury Inspector General for Tax Administration (TIGTA) Generic Survey Request.

OMB Control Number: 1505-0217.

Type of Review: Extension without change of a currently approved collection.

Description: The TIGTA's Office of Audit's mission is to provide independent oversight of IRS activities. Through its audit programs TIGTA promotes efficiency and effectiveness in the administration of internal revenue laws, including the prevention and detection of fraud, waste, and abuse affecting tax administration. To accomplish this, TIGTA Office of Audit at times finds it necessary to contact a limited number of taxpayers (including businesses) for various reasons.

Form: None.

Affected Public: Private Sector.

Estimated Number of Respondents: 2,500.

Frequency of Response: Once.

Estimated Total Number of Annual Responses: 2,500.

Estimated Time per Response: 1 hour.

Estimated Total Annual Burden Hours: 2,500.

3. Title: Assessment of Fees on Large Bank Holding Companies and Nonbank Financial Companies.

OMB Control Number: 1505-0245.

Type of Review: Extension without change of a currently approved collection.

Description: The Financial Research Fund (FRF) Preauthorized Payment Agreement form collects information with respect to regulations (31 CFR part 150) on the assessment of fees on large bank holding companies and nonbank financial companies supervised by the Federal Reserve Board to cover the expenses of the FRF.

Form: TD F 105.1.

Affected Public: Private Sector.

Estimated Number of Respondents: 50.

Frequency of Response: Once.

Estimated Total Number of Annual Responses: 50.

Estimated Time per Response: 15 minutes.

Estimated Total Annual Burden Hours: 13.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: September 21, 2018.
Spencer W. Clark,
Treasury PRA Clearance Officer.

[FR Doc. 2018-21005 Filed 9-26-18; 8:45 am]

BILLING CODE 4810-25-P